DEPARTMENT OF ENERGY

Federal Energy Regulatory Commission

[Project No. 12632-001-Texas]

East Texas Electric Cooperative, Inc.: Lake Livingston Hydroelectric Project; Notice of Proposed Restricted Service List for a Programmatic Agreement for Managing Properties Included in or Eligible for Inclusion in the National Register of Historic Places

July 9, 2010.

Rule 2010 of the Federal Energy Regulatory Commission's (Commission) Rules of Practice and Procedure, 18 CFR section 385.2010, provides that, to eliminate unnecessary expense or improve administrative efficiency, the Secretary may establish a restricted service list for a particular phase or issue in a proceeding. The restricted service list should contain the names of persons on the service list who, in the judgment of the decisional authority establishing the list, are active participants with respect to the phase or issue in the proceeding for which the list is established.

The Commission staff is consulting with the Texas State Historic Preservation Officer (hereinafter, SHPO) and the Advisory Council on Historic Preservation (hereinafter, Advisory Council) pursuant to the Advisory Council's regulations, 36 CFR Part 800, implementing section 106 of the National Historic Preservation Act, as amended, (16 U.S.C. 470f), to prepare a Programmatic Agreement for managing properties included in, or eligible for inclusion in, the National Register of Historic Places at the proposed Lake Livingston Hydroelectric Project.

The Programmatic Agreement, when executed by the Commission, the Texas SHPO, and the Advisory Council, would satisfy the Commission's section 106 responsibilities for all individual undertakings carried out in accordance with the license until the license expires or is terminated (36 CFR 800.13[e]). The Commission's responsibilities pursuant to section 106 for the project would be fulfilled through the Programmatic Agreement, which the Commission staff proposes to draft in consultation with certain parties listed below.

East Texas Electric Cooperative, Inc., as prospective licensee for Project No. 12632-001, is invited to participate in consultations to develop the Programmatic Agreement and to sign as a concurring party to the Programmatic Agreement. For purposes of commenting on the Programmatic Agreement, we propose to restrict the service list for Project No. 12632-001 as follows:

John Fowler, Executive Director, Advisory Council on Historic Preservation, The Old Post Office Building, Suite 803, 1100 Pennsylvania Avenue, NW.,Washington, DC 20004.

Debra L. Beene or Representative, Texas Historical Commission, 1511 Colorado, Austin, TX 78701.

Bryant J. Celestine, THPO, Alabama-Coushatta Tribe of Texas, 571 State Park Road 56, Livingston, TX 77351.

Robert Cast, THPO, Caddo Nation, P.O. Box 487, Binger, OK 73009.

Don Spaulding, Tribal Administrator, Kickapoo Traditional Tribe of Texas, HCR 1, Box 9700, Eagle Pass, TX 78852.

Edd Hargett, East Texas Electric Cooperative, Inc., 2905 Westward Drive, Nacogdoches, TX 75963.

Michael N. McCarty, Brickfield Burchette Ritts & Stone, PC, 1025 Thomas Jefferson Street, NW., Eighth Floor, West Tower, Washington, DC 20007.

Fred B. Werkenthin, Booth, Ahrens & Werkenthin, P.C., 515 Congress Avenue, Suite 1515, Austin, TX 78701.

Howard Slobodin, Trinity River Authority of Texas, P.O. Box 60, Arlington, TX 76004-0060.

Any person on the official service list for the above-captioned proceedings may request inclusion on the restricted service list, or may request that a restricted service list not be established, by filing a motion to that effect within 15 days of this notice date. An original and eight copies of any such motion must be filed with the Secretary of the Commission (888 First Street, NE., Washington, DC 20426) and must be served on each person whose name appears on the official service list. If no such motions are filed, the restricted service list will be effective at the end of the 15-day period. Otherwise, a further notice will be issued ruling on the motion.

Kimberly D. Bose,
Secretary.

[FR Doc. 2010-17547 Filed 7-16-10; 8:45 am]

BILLING CODE 6717-01-P